DEPARTMENT OF COMMERCE

International Trade Administration

[C-570-948]

Certain Steel Grating from the People's Republic of China: Countervailing Duty Order

AGENCY: Import Administration, International Trade Administration, Department of Commerce

SUMMARY: Based on affirmative final determinations by the Department of Commerce (the Department) and the U.S. International Trade Commission (ITC), the Department is issuing a countervailing duty order on certain steel grating (steel grating) from the People's Republic of China (PRC).

EFFECTIVE DATE: July 23, 2010.

FOR FURTHER INFORMATION CONTACT: Justin Neuman or Milton Koch, AD/CVD Operations, Office 6, Import Administration, International Trade Administration, U.S.Department of Commerce, 14th Street and Constitution Avenue, NW, Washington, DC 20230; telephone: (202) 482-0486, (202) 482-2584, respectively.

SUPPLEMENTARY INFORMATION:

Background

In accordance with sections 705(d) and 777(i)(1) of the Tariff Act of 1930, as amended (the Act), on June 8, 2010, the Department published its affirmative final determination in the countervailing duty investigation of certain steel grating from PRC. See Certain Steel Grating from the People's Republic of China: Final Affirmative Countervailing Duty Determination, 75 FR 32362 (June 8, 2010).

On July 13, 2010, the ITC notified the Department of its final determination, pursuant to section 705(d) of the Act, that an industry in the United States is materially injured within the meaning of section 705(b)(1)(A)(i) of the Act by reason of subsidized imports of subject merchandise from the PRC. See Certain Steel Grating from China, Investigation Nos. 701-TA-465 and 731-TA-1161 (Final), USITC Publication 4168 (July 2010). Pursuant to section 706(a) of the Act, the Department is publishing a countervailing duty order on the subject merchandise.

Scope of the Order

The products covered by this order are certain steel grating, consisting of two or more pieces of steel, including load-bearing pieces and cross pieces, joined by any assembly process, regardless of: (1) size or shape; (2) method of manufacture; (3) metallurgy (carbon, alloy, or stainless); (4) the profile of the bars; and (5) whether or not they are galvanized, painted, coated, clad or plated. Steel grating is also commonly referred to as “bar grating,” although the components may consist of steel other than bars, such as hot-rolled sheet, plate, or wire rod.

The scope of this order excludes expanded metal grating, which is comprised of a single piece or coil of sheet or thin plate steel that has been slit and expanded, and does not involve welding or joining of multiple pieces of steel. The scope of this order also excludes plank type safety grating which is comprised of a single piece or coil of sheet or thin plate steel, typically in thickness of 10 to 18 gauge, that has been pierced and cold formed, and does not involve welding or joining of multiple pieces of steel.

Certain steel grating that is the subject of this order is currently classifiable in the Harmonized Tariff Schedule of the United States (HTSUS) under subheading 7308.90.7000. While the HTSUS subheading is provided for convenience and customs purposes, the written description of the scope of this order is dispositive.

Countervailing Duty Order

On July 13, 2010, the ITC notified the Department of its final determination, pursuant to section 705(d) of the Act, that an industry in the United States is materially injured within the meaning of section 705(b)(1)(A)(i) of the Act as a result of subsidized imports of steel grating from the PRC. As a result of the ITC's final determination, in accordance with section 706(a) of the Act, the Department will direct U.S. Customs and Border Protection (CBP) to assess, upon further instruction by the Department, countervailing duties on all unliquidated entries of steel grating from the PRC entered, or withdrawn from warehouse, for consumption on or after November 3, 2009, the date on which the Department published its preliminary affirmative countervailing duty determination in the Federal Register, and before March 3, 2010, the date on which the Department instructed CBP to discontinue the suspension of liquidation in accordance with section 703(d) of the Act. See Certain Steel Grating from the People's Republic of China: Preliminary Affirmative Countervailing Duty Determination and Alignment of Final Countervailing Duty Determination with Final Antidumping Duty Determination, 74 FR 56796 (November 3, 2009). Section 703(d) of the Act states that the suspension of liquidation pursuant to a preliminary determination may not remain in effect for more than four months. Accordingly, the Department terminated suspension of liquidation effective March 3, 2010. Entries of steel grating made on or after March 3, 2010, and prior to the date of publication of the ITC's final determination in the Federal Register, are not liable for the assessment of countervailing duties.

Reinstitution of Suspension of Liquidation

In accordance with section 706 of the Act, the Department will direct CBP to reinstitute the suspension of liquidation for steel grating from the PRC, effective the date of publication of the ITC's notice of final determination in the Federal Register, and to assess, upon further advice by the Department pursuant to section 706(a)(1) of the Act, countervailing duties for each entry of the subject merchandise in an amount based on the net countervailable subsidy rates for the subject merchandise. On or after the date of publication of the ITC's final injury determination in the Federal Register, CBP must require, at the same time as importers would normally deposit estimated duties on this merchandise, a cash deposit equal to the rates noted below:

Exporter/Manufacturer | Net Countervailable Subsidy Rate
Ningbo Jiulong Machinery Manufacturing Co., Ltd. | 62.46% ad valorem
All Others | 62.46% ad valorem

This notice constitutes the countervailing duty order with respect to steel grating from the PRC pursuant to section 706(a) of the Act. Interested parties may contact the Department's Central Records Unit, Room 1117 of the main Commerce building, for copies of an updated list of countervailing duty orders currently in effect.

This countervailing duty order is issued and published in accordance with sections 705(c)(2), 706(a) and 777(i)(1) of the Act, and 19 CFR 351.211.

Dated: JUly 16, 2010.
Ronald K. Lorentzen,
Deputy Assistant Secretary for Import Administration.

[FR Doc. 2010-18110 Filed 7-22-10; 8:45 am]

BILLING CODE 3510-DS-S